MERIT SYSTEMS PROTECTION BOARD

Membership of the Merit Systems Protection Board's Senior Executive Service Performance Review Board

AGENCY: Merit Systems Protection Board.

ACTION: Notice.

SUMMARY: Notice is hereby given of the members of the Performance Review Board.

FOR FURTHER INFORMATION CONTACT: Steve Nelson, Director of Policy and Evaluation, Merit Systems Protection Board, 1615 M Street, NW., Washington, DC 20419.

SUPPLEMENTARY INFORMATION: The Merit Systems Protection Board is publishing the names of the new and current members of the Performance Review Board (PRB) as required by 5 U.S.C. 4314(c)(4). Rosemarie Straight and Steve Nelson have been appointed as new members. P.J.Winzer will continue to serve as Chair of the PRB; Barbara Wade will continue to serve as member.

Dated: November 18, 2003.
Bentley M. Roberts, Jr.,
Clerk of the Board.

[FR Doc. 03-29446 Filed 11-25-03; 8:45 am]

BILLING CODE 7400-01-P